DEPARTMENT OF DEFENSE

Office of the Secretary

[Transmittal No. 25-89]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 25-89, Policy Justification, and Sensitivity of Technology.

Dated: January 22, 2026.
Stephanie J. Bost,
Alternate OSD Federal Register Liaison Officer, Department of Defense.

BILLING CODE 6001-FR-P

BILLING CODE 6001-FR-C

Transmittal No. 25-89

Notice of Proposed Issuance of Letter of Offer Pursuant to Section 36(b)(1) of the Arms Export Control Act, as amended

(i) Prospective Purchaser: Government of Norway

(ii) Total Estimated Value:

Major Defense Equipment * | $125.6 million
Other | $ 36.5 million
TOTAL | $162.1 million

(iii) Description and Quantity or Quantities of Articles or Services under Consideration for Purchase:

Major Defense Equipment (MDE):

Up to fifty (50) MK 54 MOD 0 lightweight torpedo all up rounds

Non-Major Defense Equipment:

The following non-MDE items will also be included: torpedo components; containers; software; training; support equipment; spare and repair parts; publications and technical documentation; transportation; United States (U.S.) Government and contractor engineering, technical, and logistical support services; and other related elements of logistics and program support.

(iv) Military Department: Navy (NO-P-AIJ)

(v) Prior Related Cases, if any: NO-P-AIA

(vi) Sales Commission, Fee, etc., Paid, Offered, or Agreed to be Paid: None known at this time

(vii) Sensitivity of Technology Contained in the Defense Article or Defense Services Proposed to be Sold: See Attached Annex

(viii) Date Report Delivered to Congress: September 17, 2025

* as defined in Section 47(6) of the Arms Export Control Act.

POLICY JUSTIFICATION

Norway—MK 54 MOD 0 Lightweight Torpedoes

The Government of Norway has requested to buy up to fifty (50) MK 54 MOD 0 lightweight torpedo all up rounds. The following non-MDE items will also be included: torpedo components; containers; software; training; support equipment; spare and repair parts; publications and technical documentation; transportation; U.S. Government and contractor engineering, technical, and logistical support services; and other related elements of logistics and program support. The estimated total cost is $162.1 million.

This proposed sale will support the foreign policy and national security objectives of the U.S. by improving the security of a NATO Ally that is a force for political stability and economic progress in Europe.

The proposed sale will improve Norway's capability to meet current and future threats and increase its interoperability with the U.S. and other NATO members. Norway currently has MK 54 MOD 0 lightweight torpedoes in its inventory and will have no difficulty absorbing this equipment into its armed forces.

The proposed sale of this equipment and support will not alter the basic military balance in the region.

The principal contractor will be RTX Corporation, located in Arlington, VA. At this time, the U.S. Government is not aware of any offset agreement proposed in connection with this potential sale. Any offset agreement will be defined in negotiations between the purchaser and the contractor.

Implementation of the proposed sale will require the assignment of U.S. Government and contractor representatives to Norway on a temporary basis in conjunction with program technical oversight and support requirements.

There will be no adverse impact on U.S. defense readiness as a result of this proposed sale.

Transmittal No. 25-89

Notice of Proposed Issuance of Letter of Offer Pursuant to Section 36(b)(1) of the Arms Export Control Act

Annex

Item No. vii

(vii) Sensitivity of Technology:

1. The MK 54 MOD 0 lightweight torpedo is a conventional torpedo that can be launched from surface ships and aircraft. The MK 54 is an upgrade of the MK 46 torpedo. The upgrade to the MK 54 involves replacement of the torpedo's sonar and guidance and control systems with modern technology. The new guidance and control system uses a combination of commercial off-the-shelf and custom-built electronics. The warhead, fuel tank, and propulsion system from the MK 46 torpedo are re-used in the MK 54 configuration with minor modifications.

2. The highest level of classification of defense articles, components, and services included in this potential sale is SECRET.

3. If a technologically advanced adversary were to obtain knowledge of the specific hardware and software elements, the information could be used to develop countermeasures that might reduce system effectiveness or be used in the development of a system with similar or advanced capabilities.

4. A determination has been made that Norway can provide substantially the same degree of protection for the sensitive technology being released as the U.S. Government. This sale is necessary to further the U.S. foreign policy and national security objectives outlined in the Policy Justification.

5. All defense articles and services listed in this transmittal have been authorized for release and export to the Government of Norway.

[FR Doc. 2026-01506 Filed 1-26-26; 8:45 am]

BILLING CODE 6001-FR-P